SMALL BUSINESS ADMINISTRATION

[Disaster Declaration #10476]

Washington Disaster # WA-00004

AGENCY: U.S. Small Business Administration

ACTION: Notice.

SUMMARY: This is a Notice of the Presidential declaration of a major disaster for Public Assistance Only for the State of Washington (FEMA—1641—DR), dated 5/17/2006.

Incident: Severe storms, flooding, tidal surge, landslides, and mudslides

Incident Period: 1/27/2006 through 2/4/2006.

Effective Date: 5/17/2006.

Physical Loan Application Deadline Date: 7/17/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 05/17/2006, applications for Private Non-Profit organizations that provide essential services of a governmental nature may file disaster loan applications at the address listed above or other locally announced locations.

The following areas have been determined to be adversely affected by the disaster:

Primary Counties:

Clallam

Grays Harbor

Island

Jefferson Kitsap

Mason

Pacific

Pend Oreille

San Juan

Snohomish

Wahkiakum

The Interest Rates are:

Other (Including Non-Profit Organizations) With Credit Available Elsewhere: 5.000.

Businesses And Non-Profit Organizations Without Credit Available Elsewhere: 4.000.

The number assigned to this disaster for physical damage is 10476.

(Catalog of Federal Domestic Assistance Number 59008)

Cheri L. Cannon,
Acting Associate Administrator for Disaster Assistance.

[FR Doc. E6-8345 Filed 5-30-06; 8:45 am]

BILLING CODE 8025-01-P